OFFICE OF SCIENCE & TECHNOLOGY POLICY

U.S. National Climate Assessment Objectives, Proposed Topics, and Next Steps

Correction

In notice document 2010-22229 beginning on page 54403 in the issue of Tuesday, September 7, 2010 make the following correction:

On page 54403 under the SUMMARY section, in the second column, in the tenth through eleventh lines, the Web site is corrected to read as “(http://globalchange.gov/what-we-do/assessment/notices)”.

[FR Doc. C1-2010-22229 Filed 9-20-10; 8:45 am]

BILLING CODE 1505-01-D